DEPARTMENT OF TRANSPORTATION

Office of the Secretary

Drug Testing Procedures

AGENCY: Office of the Secretary (OST), U.S. Department of Transportation (DOT).

ACTION: Informational Notice: HHS Drug Testing Proposals.

SUMMARY: The Department of Transportation (DOT) is issuing this notice to call to the attention of employers, employees, testing service agents, and other interested persons in its transportation industry drug testing program a notice proposing important new Department of Health and Human Services (HHS) drug testing procedures. Because of the close relationship between HHS and DOT drug testing procedures, participants in the DOT transportation industry drug testing program should be aware of important issues that HHS is considering, which may later affect the DOT testing program.

Comment Closing Date: HHS is considering comments on its proposal through July 12, 2004.

ADDRESSES: Comments on the HHS proposal should be sent directly to HHS. The following are HHS” instructions to commenters on how and where to submit comments:

You may submit comments, identified by Docket Number 04-7984, by any of the following methods:

• E-mail: wvogl@samhsa.gov. Include docket number and/or RIN number in the subject line of the message.

• Fax: (301) 443-3031.

• Mail: 5600 Fishers Lane, Rockwall II, Suite 815, Rockville, Maryland 20857.

• Hand Delivery/Courier: 5515 Security Lane, Suite 815, Rockville, Maryland 20852.

• Information Collection Requirements: Submit comments to the Office of Information and Regulatory Affairs, OMB, New Executive Office Building, 725 17th Street, NW., Washington, DC 20502, Attn: Desk Officer for SAMHSA. Because of delays in receipt of mail, comments may also be sent to (202) 95-6974 (fax).

• Instructions: All submissions received must include the agency name and docket number or Regulatory Information Number (RIN) for this rulemaking. All comments will be available for public review at 5515 Security Lane, Suite 815, Rockville, Maryland 20852.

FOR FURTHER INFORMATION CONTACT: The HHS informational contact on this rulemaking is Walter F. Vogl, Ph.D., Drug Testing Section, Division of Workplace Programs, CSAP, 5600 Fishers Lane, Rockwall II, Suite 815, Rockville, Maryland 20857, (301) 443-6014 (voice), (301) 443-3031 (fax), wvogl@samhsa.gov (e-mail). The DOT contacts on drug testing procedure issues are Jim Swart, Acting Director, Office of Drug and Alcohol Policy Compliance, 400 7th Street, SW., Washington DC 20590, phone (202) 366-3784; e-mail jim.swart@ost.dot.gov; and Robert C. Ashby, Deputy Assistant General Counsel for Regulation and Enforcement, same address, phone (202) 366-9310; e-mail bob.ashby@ost.dot.gov.

SUPPLEMENTARY INFORMATION: The Department of Health and Human Services (HHS) has issued an important notice proposing to revise its Mandatory Guidelines for Federal Workplace Drug Testing programs [69 FR 19673; April 13, 2004]. Interested persons may access the HHS document on the Internet at the following URL: http://a257.g.akamaitech.net/7/257/2422/14mar20010800/edocket.access.gpo.gov/2004/pdf/04-7984.pdf. In their summary of the document HHS states, “The Department of Health and Human Services is proposing to establish scientific and technical guidelines for the testing of hair, sweat, and oral fluid specimens in addition to urine specimens; scientific and technical guidelines for using on-site tests to test urine and oral fluid at the collection site; requirements for the certification of instrumented initial test facilities; and added standards for collectors, on-site testers, and medical review officers.”

This HHS proposal does not propose to amend the drug testing requirements and procedures that apply to the Department of Transportation drug testing program for DOT-regulated industries (49 CFR Part 40). Nevertheless, we believe that employers, employees, and testing service providers involved in the DOT testing program should be aware of the HHS notice. We recommend that DOT program participants review the HHS proposals and, if they have views or concerns to express, comment on the notice to HHS. The reason for this suggestion is that there is a close relationship between the HHS Mandatory Guidelines and the DOT testing procedures in 49 CFR Part 40.

Part 40, first issued in 1988, incorporated the substance of original HHS Guidelines, adapting the HHS provisions to the transportation workplace. In 1991, Congress enacted the Omnibus Transportation Employee Testing Act. This statute recognized the existing close relationship between the HHS guidelines and Part 40. The statute requires DOT to “incorporate” the HHS guidelines and amendments to them into DOT testing procedures, while leaving DOT sufficient authority to tailor its own program. Because of this statutorily recognized relationship between these guidelines and Part 40, any HHS final rule resulting from its current proposal, while not directly regulating transportation industry employers, will necessarily have to be considered by the Department of Transportation in the context of potential future revisions to Part 40.

We urge interested persons to read the HHS document carefully and to provide any comments directly to the HHS Docket.

Issued this 5th day of May, 2004, at Washington DC.
Jim L. Swart,
Acting Director, Office of Drug and Alcohol Policy and Compliance.

[FR Doc. 04-10810 Filed 5-12-04; 8:45 am]

BILLING CODE 4910-62-P